DEPARTMENT OF HEALTH AND HUMAN SERVICES

National Institutes of Health

Proposed Collection; 60-Day Comment Request; Center for Cancer Training (CCT) Application Form for Electronic Individual Development Plan (eIDP) (National Cancer Institute)

AGENCY: National Institutes of Health, HHS.

ACTION: Notice.

SUMMARY: In compliance with the requirement of the Paperwork Reduction Act of 1995 to provide opportunity for public comment on proposed data collection projects, the National Institutes of Health, National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Erika Ginsburg, Scientific Program Analyst, Center for Cancer Training, National Cancer Institute, 9609 Medical Center Drive, Room 2W-110, Bethesda, Maryland, 20892 or call non-toll-free number (240) 276-5627 or email your request, including your address to: ginsbure@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Center for Cancer Training (CCT) Application Form for electronic Individual Development Plan (eIDP), 0925-0762, Expiration Date 07/31/2022, REVISION, National Cancer Institute (NCI), National Institutes of Health (NIH).

Need and Use of Information Collection: This information collection request is for a revision of the electronic Individual Development Plan (eIDP) for three years. The National Cancer Institute's (NCI) Center for Cancer Training (CCT) supports NCI's goal of training cancer researchers with various educational levels (postbaccalaureate, graduate students, postdoctoral fellows) and for varying periods of time (3 months to 5 years). The eIDP is an online, detailed questionnaire focused on responses to career and professional goals and expectations while the trainee works at the NIH. The eIDP ensures the trainees are receiving proper career and professional guidance, making appropriate progress, and determining activities to achieve their goals. The eIDP is also used to track trainees' career and professional goals and to ensure trainees receive the tools needed to achieve those goals. It is expected the trainees will complete the eIDP annually and that the eIDP process could be improved by their responses. The effectiveness of training could also be enhanced by the reports received by the trainees completing the eIDP. Individual Development Plans have been collected by paper and pencil from trainees since 2001.

OMB approval is requested for 3 years. There are no costs to respondents other than their time. The total estimated annualized burden are 2,009 hours.

Estimated Annualized Burden Hours
Category of respondents | Number of respondents | Number of responses per respondent | Average time per response (in hours) | Total annual burden hours
Individuals—eIDP | 1,800 | 1 | 1 | 1,800
Individuals—Alumni | 500 | 1 | 5/60 | 42
Individuals—Feedback | 500 | 1 | 20/60 | 167
Totals |  | 2,800 |  | 2,009

Dated: February 10, 2022.
Diane Kreinbrink,
Project Clearance Liaison, National Cancer Institute, National Institutes of Health.

[FR Doc. 2022-03258 Filed 2-15-22; 8:45 am]

BILLING CODE 4140-01-P